SURFACE TRANSPORTATION BOARD

[Docket No. FD 35258 (Sub-No. 1)]

Mississippi Central Railroad Co.—Amended Lease and Operation Exemption—Line of Tishomingo County, Mississippi

Mississippi Central Railroad Co. (MSCI), a Class III rail carrier, has filed a verified notice of exemption under 49 CFR 1150.41 to renew its lease and continue to operate a line of railroad owned by, and located in, Tishomingo County, Miss., between Norfolk Southern Railway Company's Iuka Wye at milepost 0.0 and the Tri-State Commerce Park at milepost 10.0 (the Line).

According to the verified notice, MSCI has leased and operated the Line since 2009.¹ MSCI states that the lease for the Line expired on December 31, 2019, and that, pursuant to a recently signed Rail Line Lease & Operating Agreement (Agreement), the parties have agreed to extend the lease through December 31, 2023, with the option for MSCI thereafter to extend the lease for two additional four-year terms in accordance with the terms of the Agreement. MSCI states that it will continue to operate and provide common carrier service to shippers on the Line.

¹ See Miss. Cent. R.R.—Change in Operators Exemption—Tishomingo R.R., FD 35258 (STB served July 10, 2009).

MSCI certifies that its projected annual revenues from this transaction will not result in its becoming a Class I or Class II rail carrier and will not exceed $5 million.

The earliest this transaction may be consummated is June 26, 2021, the effective date of the exemption (30 days after the verified notice was filed).

If the notice contains false or misleading information, the exemption is void ab initio. Petitions to revoke the exemption under 49 U.S.C. 10502(d) may be filed at any time. The filing of a petition to revoke will not automatically stay the effectiveness of the exemption. Petitions to stay must be filed no later than June 18, 2021.

All pleadings, referring to Docket No. FD 35258 (Sub-No. 1), should be filed with the Surface Transportation Board via e-filing on the Board's website. In addition, a copy of each pleading must be served on MSCI's representative, William A. Mullins, Baker & Miller PLLC, 2401 Pennsylvania Ave. NW, Suite 300, Washington, DC 20037.

According to MSCI, this action is categorically excluded from environmental review under 49 CFR 1105.6(c) and from historic reporting under 49 CFR 1105.8(b).

Board decisions and notices are available at www.stb.gov.

Decided: June 8, 2021.
By the Board, Scott M. Zimmerman, Acting Director, Office of Proceedings.
Jeffrey Herzig,
Clearance Clerk.

[FR Doc. 2021-12325 Filed 6-10-21; 8:45 am]

BILLING CODE 4915-01-P